DEPARTMENT OF TRANSPORTATION

Federal Aviation Administration

[Summary Notice No. PE-2002-01]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on January 24, 2002.
Donald P. Byrne,
Assistant Chief Counsel for Regulations.

Dispositions of Petitions

Docket No.: FAA-2001-10799 (previously Docket No. 29682).

Petitioner: Garrett Aviation Services.

Section of 14 CFR Affected: 14 CFR 145.45(f).

Description of Relief Sought/Disposition: To permit Garrett to place and maintain its inspection procedures manual (IPM) in strategically located areas throughout its facility in lieu of giving a copy of the IPM to each of its supervisory and inspection personnel.

Grant, 12/21/2001, Exemption No. 7089A

Docket No.: FAA-2001-10870.

Petitioner: Garrett Aviation Services.

Section of 14 CFR Affected: 14 CFR 25.813(e).

Description of Relief Sought/Disposition: To permit Garrett to install interior doors between passenger compartments on the Dassault Aviation airplane models Mystere Falcon 900 and Falcon 900EX.

Grant, 11/27/2001, Exemption No. 7668

[FR Doc. 02-2144 Filed 1-28-02; 8:45 am]

BILLING CODE 4910-13-M